DEPARTMENT OF COMMERCE

National Oceanic and Atmospheric Administration

[I.D. 041904A]

New England Fishery Management Council; Public Meeting

AGENCY: National Marine Fisheries Service (NMFS), National Oceanic and Atmospheric Administration (NOAA), Commerce.

ACTION: Public meeting.

SUMMARY: The New England Fishery Management Council (Council) will hold a three-day Council meeting on May 11-13, 2004, to consider actions affecting New England fisheries in the exclusive economic zone (EEZ).

DATES: The meeting will be held on Tuesday, May 11, 2004 beginning at 1 p.m. and on Wednesday and Thursday, May 12 and 13, beginning at 8:30 a.m.

ADDRESSES: The meeting will be held at the Providence Biltmore Hotel, 11 Dorrance Street, Providence, RI 02903; telephone (401)421-0700. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, May 11, 2004

Following introductions, the Council will receive a report from its Habitat/Marine Protected Areas Committee. During the discussion, the Council will review and select Essential Fish Habitat alternatives for inclusion in the Draft Supplemental Environmental Impact Statement being prepared for Amendment 1 to the Herring Fishery Management Plan (FMP). After considering recommendations from its Dogfish Committee as well as the Mid-Atlantic Council, the New England Council will approve issues to be addressed in Amendment 1 to the Spiny Dogfish FMP.

Wednesday, May 12, 2004

Reports on recent activities will be provided by the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Council will use the remainder of the day to consider groundfish management issues. The Council could take final action on Framework Adjustment 40A to the Northeast Multispecies FMP, alternatives that would create limited opportunities for the use of Category “B” days-at-sea as discussed in Amendment 13 to the FMP. B days are among the effort controls included in the amendment which has not yet been approved by the Secretary of Commerce. After a mid-day break, the Council will review the operations plan of the Cape Cod Commercial Hook Fishermen's Association Hook Sector and provide its comments to the Regional Administrator.

Thursday, May 13, 2004

On Thursday, the Council's Research Steering Committee will report on and ask for approval of a policy that addresses the review and use of new research in the fishery management process. Following this agenda item NOAA Fisheries staff will solicit comments from the Council on Amendment 2 to Highly Migratory Species FMP and Amendment 2 to the Billfish FMP as part of scoping for these actions. The Council will consider whether to propose changing the specification process in the Red Crab FMP from an annual to a three-year process in a future framework adjustment to the plan. The Council also will consider making a recommendation to NOAA Fisheries on a possible change to the current penalty schedule as it concerns egregious violations of fishery management rules. Following a break there will be an open comment period for anyone wishing to bring issues before the Council that do not appear on the agenda. Before adjourning, there will be a report from the Chairman of the Council's Scientific and Statistical Committee on how the Council should use stock assessment advice in light of changing assessments and retrospective patterns in fishing mortality and biomass estimates. Any other outstanding business will be addressed at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 19, 2004.
Alan D. Risenhoover,
Acting Director, Office of Sustainable Fisheries, National Marine Fisheries Service.

[FR Doc. E4-907 Filed 4-22-04; 8:45 am]

BILLING CODE 3510-22-S